DEPARTMENT OF DEFENSE

Department of the Navy

Notice of Virtual Public Meetings for the Draft Supplemental Environmental Impact Statement/Overseas Environmental Impact Statement for Gulf of Alaska Navy Training Activities

AGENCY: Department of the Navy, Department of Defense.

ACTION: Notice of availability; notice of public meeting.

SUMMARY: Pursuant of the National Environmental Policy Act (NEPA) of 1969, as implemented by the Council on Environmental Quality, and Presidential Executive Order 12114, the Department of the Navy (DON) has prepared and filed with the United States Environmental Protection Agency a draft supplement to the 2011 Gulf of Alaska (GOA) Navy Training Activities Final Environmental Impact Statement/Overseas Environmental Impact Statement (EIS/OEIS) (referred to as the 2011 GOA Final EIS/OEIS) and the 2016 GOA Navy Training Activities Final Supplemental EIS/OEIS (referred to as the 2016 GOA Final Supplemental EIS/OEIS). In the 2020 Draft Supplemental EIS/OEIS, the DON assesses the potential environmental effects associated with continuing periodic military readiness activities in the GOA Temporary Maritime Activities Area (TMAA). This notice announces the public review and comment period and the dates of the virtual public meetings, includes information about how the public can review and comment on the document, and provides supplementary information about the environmental planning effort.

DATES: All comments must be postmarked or received online by 11:59 p.m. Pacific Standard Time on February 16, 2021, for consideration in the development of the Final Supplemental EIS/OEIS. Federal agencies and officials, Alaska Native Tribes, state and local agencies and officials, and interested organizations and individuals are encouraged to provide comments on the 2020 Draft Supplemental EIS/OEIS during the public review and comment period.

Due to COVID-19 travel and public event restrictions, the DON is holding virtual public meetings, consisting of a presentation and question and answer sessions, to discuss the Proposed Action and the draft environmental impact analysis. Visit www.GOAEIS.com/VPM to learn more about and attend a virtual public meeting. An audio-only option will also be available. Meetings will occur as follows:

1. Tuesday, January 19, 2021, from 3 to 4 p.m. Alaska Standard Time

2. Wednesday, February 3, 2021, from 5 to 6 p.m. Alaska Standard Time

Substantive questions for discussion with Navy representatives at the virtual public meetings can be submitted between January 11 and 18, 2021, for the January 19, 2021, meeting, and between January 26 and February 2, 2021, for the February 3, 2021, meeting. Email questions to projectmanager@goaeis.com or complete the form at www.GOAEIS.com.

ADDRESSES: Written comments may be mailed to Naval Facilities Engineering Command Northwest, Attention: GOA Supplemental EIS/OEIS Project Manager, 1101 Tautog Circle, Suite 203, Silverdale, WA 98315-1101, or submitted electronically via the project website at www.GOAEIS.com.

FOR FURTHER INFORMATION CONTACT: Naval Facilities Engineering Command Northwest, Attention: Ms. Kimberly Kler, GOA Supplemental EIS/OEIS Project Manager, 1101 Tautog Circle, Suite 203, Silverdale, WA 98315-1101, 360-315-5103, projectmanager@goaeis.com.

SUPPLEMENTARY INFORMATION: The DON's Proposed Action is to continue periodic military training activities within the GOA TMAA. Proposed training activities are similar to those that have occurred in the GOA TMAA for decades. The geographic extent of the GOA TMAA and Proposed Action, including the location, number, and frequency of major training exercises, remain unchanged from the 2016 Final Supplemental EIS/OEIS. Although the types of activities and number of events in the Proposed Action are the same as in previous documents (Alternative 1 in both the 2011 and 2016 impact analyses), there have been changes in the platforms and systems used in those activities. For example, the EA-6B aircraft and frigate, and their associated systems, have been replaced by the EA-18G aircraft, Littoral Combat Ship, and Destroyer. The 2020 Draft Supplemental EIS/OEIS includes the analysis of at-sea training activities projected to meet readiness requirements beyond 2022 and into the reasonably foreseeable future, and reflects the most up-to-date compilation of training activities deemed necessary to accomplish military readiness during that time period.

The 2020 Draft Supplemental EIS/OEIS also updates the 2011 and 2016 impact analyses with new information and analytical methods the DON developed and has used since 2016. New information includes an updated acoustic effects model, updated marine mammal density data and sea turtle hearing criteria, and other emergent best available science. The DON is preparing a Supplemental EIS/OEIS to renew required federal regulatory permits and authorizations under the Marine Mammal Protection Act and the Endangered Species Act. The DON will consult with the National Marine Fisheries Service (NMFS) and United States Fish and Wildlife Service to renew these permits and authorizations. Additionally, NMFS is a cooperating agency for this Supplemental EIS/OEIS.

The 2020 Draft Supplemental EIS/OEIS is available for electronic viewing or download at www.GOAEIS.com. The 2020 Draft Supplemental EIS/OEIS was distributed to federal agencies and federally recognized Alaska Native Tribes with which the DON is consulting.

All comments submitted during the public review and comment period from December 11, 2020, to February 16, 2021, will become part of the public record, and substantive comments will be addressed in the Final Supplemental EIS/OEIS.

The DON is committed to providing the public an accessible version of the 2020 Draft Supplemental EIS/OEIS during COVID-19 conditions. If you need assistance accessing the document or attending the virtual public meetings, please contact Ms. Julianne Stanford, Navy Region Northwest Public Affairs Office, at julianne.stanford@navy.mil or 360-867-8525. For all other queries or if you require additional information about the project, please contact Ms. Kimberly Kler, GOA Supplemental EIS/OEIS Project Manager, at projectmanager@goaeis.com.

Individuals interested in receiving electronic project updates can subscribe on the project website to receive notifications via email for key milestones throughout the environmental planning process.

Dated: December 3, 2020.
K. R. Callan,
Commander, Judge Advocate General's Corps, U.S. Navy, Federal Register Liaison Officer.

[FR Doc. 2020-26950 Filed 12-10-20; 8:45 am]

BILLING CODE 3810-FF-P